DEPARTMENT OF COMMERCE

Bureau of Industry and Security

Action Affecting Export Privileges; Erik Kyriacou; In the Matter of: Erik Kyriacou, 50 Park Drive, Rocky Point, NY 11778

Order Denying Export Privileges

A. Denial of Export Privileges of Erik Kyriacou

On July 19, 2004, in the U.S. District Court in the Eastern District of Pennsylvania, Erik Kyriacou (“Kyriacou”) pleaded guilty to four charges, including two violations of the International Emergency Economic Powers Act (50 U.S.C. 1701-1706 (2000)) (“IEEPA”). As to the IEEPA counts, Kyriacou pleaded guilty of knowingly and willfully having exported and caused to be exported from the United States to the Islamic Republic of Iran, four electrophysics astroscope lenses, Model 9300XL-3N, which were Commerce Control List items, without obtaining the required licenses from the Department of Commerce. These items were controlled for national security reasons for export to Iran. Kyriacou was sentenced to five years probation with the first four months to be spent in home confinement.

Section 11(h) of the Export Administration Act of 1979, as amended (currently codified at 50 U.S.C. app. §§ 2401-2420 (2000)) (“Act”) ¹ and Section 766.25 of the Export Administration Regulations ² (“Regulations”) provide, in pertinent part, that “[t]he Director of Exporter Services, in consultation with the Director of the Office of Export Enforcement, may deny export privileges of any person who has been convicted of a violation of * * * IEEPA,” for a period not to exceed 10 years from the date of conviction. 15 CFR 766.25(a) and (d). In addition, § 750.8 of the Regulations states that BIS's Office of Exporter Services may revoke any BIS licenses previously issued in which the person had an interest in at the time of his conviction.

¹ From August 21, 1994 through November 12, 2000, the Act was in lapse. During that period, the President, through Executive Order 12924, which had been extended by successive Presidential Notices, the last of which was August 3, 2000 (3 CFR, 2000 Comp. 397 (2001)), continued the Regulations in effect under the International Emergency Economic Powers Act (50 U.S.C. 1701-1706 (2000)) (“IEEPA”). On November 13, 2000, the Act was reauthorized and it remained in effect through August 20, 2001. Since August 21, 2001, the Act has been in lapse and the President, though Executive Order 13222 of August 17, 2001 (3 CFR, 2001 Comp. 783 (2002)), as extended by the Notice of August 2, 2005 (70 FR 45273, August 5, 2005), has continued the Regulations in effect under the IEEPA.

² The Regulations are currently codified at 15 CFR parts 730-774 (2005).

I have received notice of Kyriacou's indictment for violating the IEEPA, and have provided notice and an opportunity for Kyriacou to make a written submission to the Bureau of Industry and Security as provided in § 766.25 of the Regulations. Having received no submission from Kyriacou, I, following consultations with the Export Enforcement, including the Director, Office of Export Enforcement, have decided to deny Kyriacou's export privileges under the Regulations for a period of 10 years from the date of Kyriacou's conviction.

Accordingly, it is hereby ordered:

I. Until July 19, 2015, Erik Kyriacou, 50 Park Drive, Rocky Point, New York 11778, when acting in behalf of Kyriacou, all of his assigns or successors, and when acting for or on behalf of Kyriacou, his representatives, agents or employees, (collectively referred to hereinafter as the “Denied Person”) may not, directly or indirectly, participate in any way in any transaction involving any commodity, software or technology (hereinafter collectively referred to as “item”) exported or to be exported from the United States that is subject to the Regulations, or in any other activity subject to the Regulations, including, but not limited to:

A. Applying for, obtaining, or using any license, License Exception, or export control document;

B. Carrying on negotiations concerning, on ordering, buying, receiving, using, selling, delivering, storing, disposing of, forwarding, transporting, financing, or otherwise servicing in any way, any transaction involving any item exported or to be exported from the United States that is subject to the Regulation, or in any other activity subject to the Regulations; or

C. Benefiting in any way from any transaction involving any item exported or to be exported from the United States that is subject to the Regulations, or in any other activity subject to the Regulations.

II. No person may, directly or indirectly, do any of the following:

A. Export or reexport to or on behalf of the Denied Person any item subject to the Regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

III. After notice and opportunity for comment as provided in § 766.23 of the Regulations, any other person, firm, corporation, or business organization related to Erik Kyriacou by affiliation, ownership, control, or position of responsibility in the conduct of trade or related services may also be made subject to the provisions of this Order.

IV. This Order does not prohibit any export, reexport, or other transaction subject to the Regulations where the only items involved that are subject to the Regulations are the foreign-produced direct product of U.S.-origin technology.

V. This order is effective immediately and shall remain in effect until July 19, 2015.

VI. In accordance with Part 756 of the Regulations, Kyriacou may file an appeal of this Order with the Under Secretary of Commerce for Industry and Security. The appeal must be filed within 45 days from the date of this Order and must comply with the provisions of Part 756 of the Regulations.

VII. A copy of this Order shall be delivered to Kyriacou. This Order shall be published in the Federal Register.

Dated: March 1, 2006.
Eileen M. Albanese,
Director, Office of Exporter Services.

[FR Doc. 06-2237 Filed 3-8-06; 8:45 am]

BILLING CODE 3510-DT-M